DEPARTMENT OF COMMERCE

National Oceanic and Atmospheric Administration

50 CFR Part 622

[Docket No. 120815345-3525-02]

RIN 0648-XE831

Snapper-Grouper Fishery of the South Atlantic; 2016 Recreational Accountability Measure and Closure for the South Atlantic Other Porgies Complex

AGENCY: National Marine Fisheries Service (NMFS), National Oceanic and Atmospheric Administration (NOAA), Commerce.

ACTION: Temporary rule; closure.

SUMMARY: NMFS implements an accountability measure (AM) for the other porgies complex recreational sector in the exclusive economic zone (EEZ) of the South Atlantic for the 2016 fishing year through this temporary rule. In the South Atlantic, the other porgies complex includes jolthead porgy, knobbed porgy, whitebone porgy, scup, and saucereye porgy. NMFS has determined that recreational landings of species in the other porgies complex have reached the recreational annual catch limit (ACL). Therefore, NMFS closes the recreational sector for the other porgies complex in the South Atlantic EEZ on September 3, 2016. This recreational closure is necessary to protect the other porgies complex resource.

DATES: This rule is effective 12:01 a.m., local time, September 3, 2016, until 12:01 a.m., local time, January 1, 2017.

FOR FURTHER INFORMATION CONTACT: Mary Vara, NMFS Southeast Regional Office, telephone: 727-824-5305, or email: mary.vara@noaa.gov.

SUPPLEMENTARY INFORMATION: The snapper-grouper fishery of the South Atlantic includes species in the other porgies complex and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The recreational ACL for the other porgies complex is 106,914 lb (48,495 kg), round weight. In accordance with regulations at 50 CFR 622.193(w)(2)(i), if the recreational ACL is met, or is projected to be met, the NMFS Assistant Administrator (AA) will file a notification with the Office of the Federal Register to close the recreational sector for the remainder of the fishing year. Recreational landings in 2016 from the Southeast Fisheries Science Center indicate that the recreational ACL has already been harvested. As a result, the recreational sector for the other porgies complex will be closed effective 12:01 a.m., local time, September 3, 2016.

During the closure, the bag and possession limits for species in the other porgies complex in or from the South Atlantic EEZ are zero. The recreational sector for the other porgies complex will reopen on January 1, 2017, the beginning of the 2017 recreational fishing year.

Classification

The Regional Administrator for the NMFS Southeast Region has determined this temporary rule is necessary for the conservation and management of the South Atlantic other porgies complex and is consistent with the Magnuson-Stevens Act and other applicable laws.

This action is taken under 50 CFR 622.193(w)(2)(i) and is exempt from review under Executive Order 12866. These measures are exempt from the procedures of the Regulatory Flexibility Act because the temporary rule is issued without opportunity for prior notice and comment. This action responds to the best scientific information available.

The AA finds that the need to immediately implement this action to close the recreational sector for the other porgies complex constitutes good cause to waive the requirements to provide prior notice and opportunity for public comment pursuant to the authority set forth in 5 U.S.C. 553(b)(B), as such procedures are unnecessary and contrary to the public interest. Such procedures are unnecessary because the rule implementing the AM has already been subject to notice and comment, and all that remains is to notify the public of the closure. Such procedures are contrary to the public interest because there is a need to immediately implement this action to protect the species in the other porgies complex. Prior notice and opportunity for public comment would require time and would potentially allow the recreational sector to further exceed its ACL.

For the aforementioned reasons, the AA also finds good cause to waive the 30-day delay in the effectiveness of this action under 5 U.S.C. 553(d)(3).

Authority: 16 U.S.C. 1801 et seq.

Dated: August 29, 2016.
Emily H. Menashes,
Acting Director, Office of Sustainable Fisheries, National Marine Fisheries Service.

[FR Doc. 2016-21090 Filed 8-29-16; 4:15 pm]

BILLING CODE 3510-22-P